NUCLEAR REGULATORY COMMISSION

10 CFR Part 20

[NRC-2023-0218]

Regulatory Guide: Health Physics Surveys for Byproduct Material at NRC-Licensed Processing and Manufacturing Plants

AGENCY: Nuclear Regulatory Commission.

ACTION: Regulatory guide: withdrawal.

SUMMARY: The U.S. Nuclear Regulatory Commission (NRC) is withdrawing Regulatory Guide (RG) 8.21, “Health Physics Surveys for Byproduct Material at NRC-Licensed Processing and Manufacturing Plants.” This RG is being withdrawn because there is more up-to-date guidance in NUREG-1556, “Consolidated Guidance About Materials Licenses,” making RG 8.21 obsolete.

DATES: The effective date of the withdrawal of RG 8.21 is January 2, 2024.

ADDRESSES: Please refer to Docket ID NRC-2023-0218 when contacting the NRC about the availability of information regarding this document. You may obtain publicly available information related to this document using any of the following methods:

• Federal Rulemaking Website: Go to https://www.regulations.gov and search for Docket ID NRC-2023-0218. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Don Lowman, telephone: (301) 415-5452; email: Don.Lowman@nrc.gov, or Harriet Karagiannis, Office of Nuclear Regulatory Research, telephone: 301-415-2493; email: Harriet.Karagiannis@nrc.gov. Both are staff of the Office of Nuclear Regulatory Research at the U.S. Nuclear Regulatory Commission, Washington, DC 20555-0001.

SUPPLEMENTARY INFORMATION: The NRC is withdrawing RG 8.21, “Health Physics Surveys for Byproduct Material at NRC-Licensed Processing and Manufacturing Plants.” The NRC staff issued RG 8.21 in 1979 to describe the methods and procedures considered acceptable by the NRC staff to comply with the survey requirements found in part 20 of title 10 of the Code of Federal Regulations (10 CFR), “Standards for Protection Against Radiation.” Although 10 CFR part 20 was revised in 1991 (May 21, 1991; 56 FR 23390), RG 8.21 was not updated.

Since the staff had consolidated and followed the latest guidance pertinent to materials licensees found in NUREG-1556, “Consolidated Guidance About Materials Licenses,” RG 8.21 became outdated. Specifically, guidance for the advanced survey/measurement techniques and other more recent survey procedures are currently included in NUREG-1556, Volume 12, Revision 1 (ADAMS Accession No. ML18136A704). Issues identified during the periodic reviews of RG 8.21 in 2012 and 2023 include: 1) the citations to the regulations described in RG 8.21 were not consistent with those listed in the 1991 revision of 10 CFR 20, 2) several of the references were outdated (e.g., some references were dated from the 1950's and no longer available to the public), and 3) the latest advances since 1979 in survey/measurement techniques and equipment that have been effective were not included in RG 8.21. For these reasons and because NUREG-1556 provides current health physics survey guidance to NRC byproduct material licensees, the NRC determined that RG 8.21 is no longer needed and is being withdrawn.

Withdrawal of an RG means that the guide no longer provides useful information or has been superseded by other guidance, technological innovations, congressional actions, or other events. The withdrawal of RG 8.21 does not alter any prior or existing NRC licensing approval or the acceptability of licensee commitments to RG 8.21. Although RG 8.21 is withdrawn, current licensees may continue to use it, and withdrawal does not affect any existing licenses or agreements. However, RG 8.21 should not be used in future requests or applications for NRC licensing actions.

Dated: December 26, 2023.
For the Nuclear Regulatory Commission.
Stephen M. Wyman,
Acting Chief, Regulatory Guide and Programs Management Branch, Division of Engineering, Office of Nuclear Regulatory Research.

[FR Doc. 2023-28797 Filed 12-29-23; 8:45 am]

BILLING CODE 7590-01-P